AGENCY FOR INTERNATIONAL DEVELOPMENT

Notice of March 14 Advisory Committee on Voluntary Foreign Aid Meeting

AGENCY: United States Agency for International Development.

ACTION: Notice of meeting.

SUMMARY: Pursuant to the Federal Advisory Committee Act, notice is hereby given of a meeting of the Advisory Committee on Voluntary Foreign Aid (ACVFA).

Date: Thursday, March 14, 2013.

Time: 2:00 p.m. to 5:00 p.m.

Location: Ronald Reagan Building, 1300 Pennsylvania Ave. NW., Washington, DC 20523.

Agenda

USAID Administrator Rajiv Shah will make opening remarks, followed by panel discussions among ACVFA members and USAID leadership, and an open Q&A. A draft agenda, room location, and additional information will be forthcoming on the ACVFA Web site at http://www.usaid.gov/who-we-are/organization/advisory-committee.

Stakeholders

The meeting is free and open to the public. Persons wishing to attend should register online at http://www.usaid.gov/who-we-are/organization/advisory-committee/get-involved.

FOR FURTHER INFORMATION CONTACT: Sandy Stonesifer, 202-712-4372.

Dated: February 22, 2013.
Sandy Stonesifer,
Executive Director, Advisory Committee on Voluntary Foreign Aid (ACVFA), U.S. Agency for International Development.

[FR Doc. 2013-04640 Filed 2-28-13; 8:45 am]

BILLING CODE P